DEPARTMENT OF THE TREASURY

Internal Revenue Service

Open Meeting of the Taxpayer Advocacy Panel

ACTION: Notice.

SUMMARY: An open meeting of the Joint Committee of the Taxpayer Advocacy Panel will be conducted (via Conference call).

DATES: The meeting will be held Tuesday, November 19, 2002.

FOR FURTHER INFORMATION CONTACT: Barbara Toy at 1-888-912-1227, or 414-297-1611.

SUPPLEMENTARY INFORMATION: Notice is hereby given pursuant to section 10(a)(2) of the Federal Advisory Committee Act, 5 U.S.C. App. (1988) that an open meeting of the Joint Committee of the Taxpayer Advocacy Panel will be held Tuesday, November 19, 2002, from 1 pm e.s.t. to 2 pm e.s.t. via a telephone conference call. If you would like to have the TAP consider a written statement or would like to attend the conference call, please call 1-888-912-1227 or 414-297-1611, or write Barbara Toy, Taxpayer Advocacy Panel, Stop 1006MIL, 310 West Wisconsin Avenue, Milwaukee, WI 53203-2221. Due to limited conference lines, notification of intent to participate in the telephone conference call meeting must be made with Barbara Toy. Due to a formatting error, this notice will not be posted for the customary 14 days.

The agenda will include the following: monthly summary report, self-assessment report, getting started issues, and discussions of next meetings.

Note: Last minute changes to the agenda are possible and could prevent effective advance notice.

Dated: October 21, 2002.
John J. Mannion,
Director, Program Planning and Quality.

[FR Doc. 02-29384 Filed 11-19-02; 8:45 am]

BILLING CODE 4830-01-P